FEDERAL TRADE COMMISSION

16 CFR Part 255

Guides Concerning the Use of Endorsements and Testimonials in Advertising

AGENCY: Federal Trade Commission.

ACTION: Extension of deadline for submission of comments.

SUMMARY: The Federal Trade Commission (“FTC” or “Commission”) is extending until March 2, 2009 the deadline for filing comments on its proposed revisions to the Federal Trade Commission’s Guides Concerning the Use of Endorsements and Testimonials in Advertising (“the Guides”).

DATES: Written comments must be received by March 2, 2009.

ADDRESSES: Interested parties are invited to submit written comments electronically or in paper form. Comments should refer to “Endorsement Guides Review, Project No. P034520” to facilitate the organization of comments. Please note that comments will be placed on the public record of this proceeding—including on the publicly accessible FTC website, at (http://www.ftc.gov/os/publiccomments.shtm) — and therefore should not include any sensitive or confidential information. In particular, comments should not include any sensitive personal information, such as an individual’s Social Security Number; date of birth; driver’s license number or other state identification number, or foreign country equivalent; passport number; financial account number; or credit or debit card number. Comments also should not include any sensitive health information, such as medical records or other individually identifiable health information. In addition, comments should not include any “[t]rade secrets and commercial or financial information obtained from a person and privileged or confidential. . . .,” as provided in Section 6(f) of the FTC Act, 15 U.S.C. 46(f), and Commission Rule 4.10(a)(2), 16 CFR 4.10(a)(2). Comments containing material for which confidential treatment is requested must be filed in paper form, must be clearly labeled “Confidential,” and must comply with FTC Rule 4.9(c).¹

¹ FTC Rule 4.2(d), 16 CFR 4.2(d). The comment must be accompanied by an explicit request for confidential treatment, including the factual and legal basis for the request, and must identify the specific portions of the comment to be withheld from the public record. The request will be granted or denied by the Commission’s General Counsel, consistent with applicable law and the public interest. See FTC Rule 4.9(c), 16 CFR 4.9(c).

Because paper mail addressed to the FTC is subject to delay due to heightened security screening, please consider submitting your comments in electronic form. Comments filed in electronic form should be submitted by using the following weblink: (https://secure.commentworks.com/ftc-endorsements) (and following the instructions on the web-based form). To ensure that the Commission considers an electronic comment, you must file it on the web-based form at the weblink (https://secure.commentworks.com/ftc-endorsements). If this Notice appears at (https://www.regulations.gov/search/index.jsp), you may also file an electronic comment through that website. The Commission will consider all comments that regulations.gov forwards to it. You may also visit the FTC website at http://www.ftc.gov to read the Notice and the news release describing it.

A comment filed in paper form should include the “Endorsement Guides Review, Project No. P034520” reference both in the text and on the envelope, and should be mailed or delivered to the following address: Federal Trade Commission, Office of the Secretary, Room H-135 (Annex S), 600 Pennsylvania Avenue, NW, Washington, DC 20580. The FTC is requesting that any comment filed in paper form be sent by courier or overnight service, if possible, because U.S. postal mail in the Washington area and at the Commission is subject to delay due to heightened security precautions.

The Federal Trade Commission Act (“FTC Act”) and other laws the Commission administers permit the collection of public comments to consider and use in this proceeding as appropriate. The Commission will consider all timely and responsive public comments that it receives, whether filed in paper or electronic form. Comments received will be available to the public on the FTC website, to the extent practicable, at (http://www.ftc.gov/os/publiccomments.shtm). As a matter of discretion, the Commission makes every effort to remove home contact information for individuals from the public comments it receives before placing those comments on the FTC website. More information, including routine uses permitted by the Privacy Act, may be found in the FTC’s privacy policy, at (http://www.ftc.gov/ftc/privacy.shtm).

FOR FURTHER INFORMATION CONTACT: Shira Modell, Attorney, Division of Advertising Practices, Bureau of Consumer Protection, Federal Trade Commission, Washington, D.C., 20580; (202) 326-3116.

SUPPLEMENTARY INFORMATION: On November 21, 2008, the Commission announced that it had approved publication of a Federal Register notice seeking public comments on proposed revisions to the Guides Concerning the Use of Endorsements and Testimonials in Advertising (“the Guides”). See 73 Fed. Reg. 72,373 (Nov. 28, 2008). The deadline established for the submission of comments was January 30, 2009.

The Association of National Advertisers, the American Association of Advertising Agencies, the Direct Marketing Association, the Electronic Retailing Association, the Interactive Advertising Bureau, the American Advertising Federation, and the Promotion Marketing Association (“the Associations”) have now requested that the comment period be extended for 60 days. The Associations state, among other things, that because of the significance of the changes proposed by the Commission, they anticipate requiring additional time to coordinate comments both within their members and with each other.

The Commission has considered the Associations’ request and believes that a 30-day extension is sufficient. Accordingly, it has decided to extend the deadline for submission of comments on the revised Guides to Monday, March 2, 2009. Such comments must be received by March 2, 2009, and must be filed in accordance with the instructions in the ADDRESSES section of this document. By direction of the Commission.

Donald S. Clark,
Secretary.

[FR Doc. E9-1644 Filed 1-30-09: 8:45 am]

BILLING CODE 6750-01-S